DEPARTMENT OF LABOR

Employment and Training Administration

[TA-W-65,018]

National Vacuum Equipment, Traverse City, MI; Notice of Termination of Investigation

Pursuant to Section 221 of the Trade Act of 1974, as amended, an investigation was initiated on January 29, 2009 in response to a worker petition filed by a company official on behalf of workers of National Vacuum Equipment, Traverse City, Michigan.

The petitioner has requested that the petition be withdrawn. Consequently, the investigation has been terminated.

Signed at Washington, DC, this 18th day of February 2009.
Richard Church,
Certifying Officer, Division of Trade Adjustment Assistance.

[FR Doc. E9-4403 Filed 3-2-09; 8:45 am]

BILLING CODE 4510-FN-P